FEDERAL COMMUNICATIONS COMMISSION

[DA 12-409]

Notice of Debarment

AGENCY: Federal Communications Commission.

ACTION: Notice.

SUMMARY: The Enforcement Bureau (the “Bureau”) debars Mr. Dennis L. Bruno from the schools and libraries universal service support mechanism (or “E-Rate Program”) for a period of three years. The Bureau takes this action to protect the E-Rate Program from waste, fraud and abuse.

DATES: Debarment commences on the date Mr. Dennis L. Bruno receives the debarment letter May 18, 2012, whichever date comes first, for a period of three years.

FOR FURTHER INFORMATION CONTACT: Joy M. Ragsdale, Federal Communications Commission, Enforcement Bureau, Investigations and Hearings Division, Room 4-A236, 445 12th Street SW., Washington, DC 20554. Joy Ragsdale may be contacted by phone at (202) 418-1697 or by email at Joy.Ragsdale@fcc.gov. If Ms. Ragsdale is unavailable, you may contact Ms. Theresa Cavanaugh, Acting Chief, Investigations and Hearings Division, by telephone at (202) 418-1420 and by email at Theresa.Cavanaugh@fcc.gov.

SUPPLEMENTARY INFORMATION: The Bureau debarred Mr. Dennis L. Bruno from the schools and libraries universal service support mechanism for a period of three years pursuant to 47 CFR 54.8. Attached is the debarment letter, DA 12-409, which was mailed to Mr. Dennis L. Bruno and released on March 15, 2012. The complete text of the notice of debarment is available for public inspection and copying during regular business hours at the FCC Reference Information Center, Portal II, 445 12th Street SW., Room CY-A257, Washington, DC 20554. In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Theresa Z. Cavanaugh,
Acting Chief, Investigations and Hearings Division, Enforcement Bureau.

March 15, 2012

DA 12-409

VIA CERTIFIED MAIL RETURN RECEIPT REQUESTED AND E-MAIL

Dr. Dennis L. Bruno,

c/o Mr. Arthur T. McQuillan, McQuillan Law Offices, 206 Main Street, Johnstown, PA 15901.

Re: Notice of Debarment, File No. EB-11-IH-1582

Dear Dr. Bruno:

The Federal Communications Commission (Commission) hereby notifies you that, pursuant to Section 54.8 of its rules, you are prohibited from participating in the schools and libraries universal service support mechanism (E-Rate program) for three years from either the date of your receipt of this Notice of Debarment, or of its publication in the Federal Register, whichever is earlier in time (Debarment Date).¹

¹ 47 CFR 54.8(g). See also 47 CFR 0.111 (delegating authority to the Enforcement Bureau to resolve universal service suspension and debarment proceedings).

On November 18, 2011, the Commission's Enforcement Bureau (Bureau) sent you a Notice of Suspension and Initiation of Debarment Proceeding (Notice of Suspension) ² that was published in the Federal Register on November 30, 2011.³ The Notice of Suspension suspended you from participating in activities associated with or relating to the E-Rate program and described the basis for initiating debarment proceedings against you, the applicable debarment procedures, and the effect of debarment.

² Letter from Theresa Z. Cavanaugh, Acting Chief, Investigations and Hearings Division, Enforcement Bureau, Federal Communications Commission, to Dr. Dennis L. Bruno, Notice of Suspension and Initiation of Debarment Proceeding, 26 FCC Rcd 16006 (Enf. Bur. 2011) (Attachment 1).

³ 76 FR 74058 (Nov. 30, 2011).

As discussed in the Notice of Suspension, on May 9, 2011, you pled guilty to intentionally misappropriating approximately $49,600 in federal education funds from the Department of Education's Fund for the Improvement of Education program in your capacity as Superintendent of the Glendale School District.⁴ Additionally, you admitted and stipulated in a plea agreement that you had conspired with others to fraudulently obtain $414,421.92 from the E-Rate program.⁵ Pursuant to Section 54.8(c) of the Commission's rules, your conviction of criminal conduct in connection with the E-Rate program is the basis for your debarment.⁶

⁴ United States v. Dennis L. Bruno, Criminal Docket No. 11-15 J, Arraignment Plea; United States Attorney's Office, Western District of Pennsylvania, News, Former Superintendent Pleads Guilty to Federal Program Theft, May 9, 2011, at http://www.justice.gov/usao/paw/news/2011/2011_may/2011_05_09_05.html (Press Release).

⁵ Press Release at 1.

⁶ 47 CFR 54.8(c).

In accordance with the Commission's debarment rules, you were required to file with the Commission any opposition to your suspension or its scope, or to your proposed debarment or its scope, no later than 30 calendar days from either the date of your receipt of the Notice of Suspension or of its publication in the Federal Register, whichever date occurred first.⁷ The Commission did not receive any such opposition.

⁷ 47 CFR 54.8 (e)(3), (4). Any opposition had to be filed no later than December 30, 2011.

For the foregoing reasons, you are debarred from participating in the E-Rate program for three years from the Debarment Date.⁸ During this debarment period, you are excluded from participating in any activities associated with or related to the E-Rate program, including the receipt of funds or discounted services through the E-Rate program, or consulting with, assisting, or advising applicants or service providers regarding the E-Rate program.⁹

⁸ Id. 54.8(e)(5), (g).

⁹ Id. 54.8(a)(1), (5), (d).

Sincerely,

Theresa Z. Cavanaugh,

Acting Chief, Investigations and Hearings Division, Enforcement Bureau.

cc: Johnnay Schrieber, Universal Service Administrative Company (via email) Rashann Duvall, Universal Service Administrative Company (via email) Stephanie L. Haines, United States Attorney's Office, Western Pennsylvania (via email)

[FR Doc. 2012-9399 Filed 4-17-12; 8:45 am]

BILLING CODE 6712-01-P